DEPARTMENT OF VETERANS AFFAIRS

Enhanced-Use Lease Development of Property at the Department of Veterans Affairs Maryland Health Care System, Fort Howard, MD

AGENCY: Department of Veterans Affairs.

ACTION: Notice of intent to designate.

SUMMARY: The Secretary of the Department of Veterans Affairs (VA) is designating the Department of Veterans Affairs Maryland Health Care System, Fort Howard, Maryland, for an enhanced-use lease development. The Department intends to enter a 75-year lease of 94.6 acres of real property with a competitively selected lessee/developer who will finance, design, develop, maintain and manage facilities, including some or all of the components of a continuing care retirement community, all at no cost to VA.

FOR FURTHER INFORMATION CONTACT: Jake Gallun, Office of Asset Enterprise Management (004B), Department of Veterans Affairs, 810 Vermont Avenue, NW., Washington, DC 20420, (202) 273-8862.

SUPPLEMENTARY INFORMATION: 38 U.S.C. section 8161 et seq. specifically provides that the Secretary may enter into an enhanced-use lease if he determines that at least part of the use of the property under the lease will be to provide appropriate space for an activity contributing to the mission of the Department; the lease will not be inconsistent with and will not adversely affect the mission of the Department; and the lease will enhance the property or result in improved services to veterans. This project meets these requirements.

Approved: April 17, 2003.
Anthony J. Principi,
Secretary of Veterans Affairs.

[FR Doc. 03-10124 Filed 4-23-03; 8:45 am]

BILLING CODE 8320-01-M